DEPARTMENT OF THE INTERIOR

Bureau of Indian Affairs

Notice of Availability of the Final Environmental Impact Statement for the Truckee River Water Quality Settlement Agreement, Federal Water Rights Acquisition Program for Washoe, Storey, and Lyon Counties, NV

AGENCY: Bureau of Indian Affairs, Interior.

ACTION: Notice.

SUMMARY: This notice advises the public that the Bureau of Indian Affairs (BIA) intends to file with the U.S. Environmental Protection Agency a Final Environmental Impact Statement (FEIS) for a proposed water rights acquisition program to fulfill federal obligations identified in the Truckee River Water Quality Settlement Agreement, and that the FEIS is available for final public review. Details of the proposed action, alternatives and areas of environmental concern addressed in the FEIS are provided in the Supplementary Information section.

DATES: Written comments must arrive by November 8, 2002. The Record of Decision will be issued on or after November 12, 2002.

ADDRESSES: You may mail, hand carry or telefax comments to Tom Strekal, Bureau of Indian Affairs, Western Nevada Agency, 1677 Hot Springs Road, Carson City, Nevada 89706, telefax (775) 887-3531.

Copies of the FEIS have been mailed to interested agencies, to local libraries, to individuals who participated in the scoping process and public hearings and to parties who requested a copy of the document. To obtain a copy of the FEIS, contact Tom Strekal at (775) 887-3500. Please specify whether you wish a paper or CD-ROM version of the document.

FOR FURTHER INFORMATION CONTACT: Mr. Tom Strekal at (775) 887-3500.

SUPPLEMENTARY INFORMATION: The BIA has completed a FEIS for a proposal to initiate a federal water rights acquisition program to acquire Truckee River water rights. The Truckee River Water Quality Settlement Agreement (WQSA), signed on October 10, 1996, establishes a joint program to improve Truckee River water quality by increasing flows in the river through the purchase and dedication of Truckee River water rights for instream flow. The acquisition program would fulfill federal obligations identified in the WQSA.

The FEIS evaluates the proposed action, two action alternatives, and a no action alternative. It describes the existing environment and potential environmental consequences of a water rights acquisition program. The FEIS considers the following issues: air quality, groundwater and surface water supply, river flow, water quality, biological resources including desert vegetation, riparian vegetation, fish, threatened and endangered species, and socio-economic resources including cultural resources, recreation, and land use.

The BIA's proposed action is the preferred alternative. This is an acquisition strategy that would allow water rights to be acquired from willing sellers located in any portion of the study area. The proposed action presumes most water rights would be acquired from the Truckee Division of the Newlands Project, due to the greater potential availability of water rights and the lower cost per acre-foot. Additional water rights would be acquired from the Reno-Sparks metropolitan area and from lands located within the Truckee River corridor from Vista downstream to Wadsworth, Nevada. Water associated with acquired rights would be stored, whenever possible, in Truckee River reservoirs owned and operated by the Bureau of Reclamation. Stored WQSA water would be released from storage to enhance Truckee River flow during periods of low flow (primarily June-September) according to a schedule prepared by the parties acquiring water rights under WQSA and the Pyramid Lake Tribe (Joint Program Parties).

Other alternatives considered in the FEIS evaluate strategies that would focus acquisition efforts in the Reno-Sparks metropolitan area or in the Truckee Division. Acquiring water rights exclusively from the Reno-Sparks metropolitan area would likely result in acquisition of the least amount of water rights due to the high cost per acre-foot. A strategy focused on water rights in the Truckee Division would result in the acquisition of the greatest amount of water rights.

The Draft EIS (DEIS) was released for public review on October 5, 2001. Public hearings were held on November 27, 28, 29, and 30, 2001, in Fernley, Nixon, Fallon, and Sparks, Nevada, respectively. At those public hearings, formal comments were received from seven individuals. The DEIS was available for public review from October 5 through December 5, 2001. Responses to comments received on the DEIS are addressed in the FEIS.

Public Comment Availability

Comments, including names and home addresses of respondents, will be available for public review at the location shown in the ADDRESSES section during regular business hours, 8 a.m. to 4:30 p.m., Monday through Friday, except holidays. Individual respondents may request confidentiality. If you wish the BIA to withhold your name and/or address from public review or disclosure under the Freedom of Information Act, you must state this prominently at the beginning of your written comments. Such requests will be honored to the extent allowed by law. The BIA will not, however, consider anonymous comments. All submissions from organizations or businesses and from individuals identifying themselves as representatives or officials of organizations or businesses will be available for public inspection in their entirely.

Authority

This notice is published in accordance with section 1503.1 of the Council on Environmental Quality Regulations (40 CFR parts 1500 through 1508) implementing the procedural requirements of the National Environmental Policy Act of 1969, as amended (42 U.S.C. 4371 et seq.), and the Department of the Interior Manual (516 DM 1-6), and is in the exercise of authority delegated to the Assistant Secretary—Indian Affairs by 209 DM 8.1.

Dated: September 26, 2002.
Neal A. McCaleb,
Assistant Secretary—Indian Affairs.

[FR Doc. 02-26034 Filed 10-10-02; 8:45 am]

BILLING CODE 4310-W7-P